DEPARTMENT OF HOMELAND SECURITY

Federal Emergency Management Agency

[Docket ID FEMA-2023-0002; Internal Agency Docket No. FEMA-B-2302]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Federal Emergency Management Agency, Department of Homeland Security.

State and county | Location and case No. | Chief executive officer of community | Community map repository | Online location of letter of map revision | Date of modification | Community No.
Arizona:
Maricopa | City of Buckeye (22-09-0619P). | The Honorable Eric Orsborn, Mayor, City of Buckeye, 530 East Monroe Avenue Buckeye, AZ 85326. | Engineering Department, 530 East Monroe Avenue, Buckeye, AZ 85326. | https://msc.fema.gov/portal/advanceSearch. | Apr. 14, 2023 | 040039
Maricopa | City of Goodyear (22-09-0284P). | The Honorable Joe Pizzillo, Mayor, City of Goodyear, 1900 North Civic Square, Goodyear, AZ 85395. | Engineering and Development Services, 14455 West Van Buren Street, Suite D101, Goodyear, AZ 85338. | https://msc.fema.gov/portal/advanceSearch. | Apr. 14, 2023 | 040046
Maricopa | City of Phoenix (22-09-0759P). | The Honorable Kate Gallego, Mayor, City of Phoenix, City Hall, 200 West Washington Street, 11th Floor, Phoenix, AZ 85003. | Street Transportation Department, 200 West Washington Street, 5th Floor, Phoenix, AZ 85003. | https://msc.fema.gov/portal/advanceSearch. | Apr. 7, 2023 | 040051
California: San Diego | City of San Diego (22-09-1348P). | The Honorable Todd Gloria, Mayor, City of San Diego, 202 C Street, 11th Floor, San Diego, CA 92101. | Development Services Department, 1222 1st Avenue, MS 301, San Diego, CA 92101. | https://msc.fema.gov/portal/advanceSearch. | Apr. 24, 2023 | 060295
Florida:
Duval | City of Jacksonville (21-04-5039P). | The Honorable Lenny Curry, Mayor, City of Jacksonville, 117 West Duval Street, Suite 400, Jacksonville, FL 32202. | Edward Ball Building Development Services, Room 2100, 214 North Hogan Street, Jacksonville, FL 32202. | https://msc.fema.gov/portal/advanceSearch. | Apr. 14, 2023 | 120077
Duval | City of Jacksonville (22-04-0449P). | The Honorable Lenny Curry, Mayor, City of Jacksonville, 117 West Duval Street, Suite 400, Jacksonville, FL 32202. | Edward Ball Building Development Services, Room 2100, 214 North Hogan Street, Jacksonville, FL 32202. | https://msc.fema.gov/portal/advanceSearch. | Apr. 19, 2023 | 120077
Orange | City of Orlando (22-04-0252P). | The Honorable Buddy Dyer, Mayor, City of Orlando, 400 South Orange Avenue, Orlando, FL 32801. | City Hall Permitting Services, 400 South Orange Avenue, 1st Floor, Orlando, FL 32801. | https://msc.fema.gov/portal/advanceSearch. | Apr. 4, 2023 | 120186
Walton | Unincorporated Areas of Walton County (22-04-2584P). | Chair Trey Nick, Walton County, 263 Chaffin Avenue, DeFuniak Springs, FL 32433. | Walton Building Department, Walton County Courthouse Annex, 6th Street, Sloss Avenue, DeFuniak Springs, FL 32433. | https://msc.fema.gov/portal/advanceSearch. | Apr. 27, 2023 | 120317
Idaho: Ada | Unincorporated Areas of Ada County (22-10-0556P). | Chair Rod Beck, Ada County Board of County Commissioners, 200 West Front Street, 3rd Floor, Boise, ID 83702. | Ada County Development Service Office, 650 Main Street, Boise, ID 83702. | https://msc.fema.gov/portal/advanceSearch. | Apr. 4, 2023 | 160001
Illinois:
Cook | City of Elgin (22-05-0345P). | The Honorable David Kaptain, Mayor, City of Elgin, 150 Dexter Court, Elgin, IL 60120. | Public Works Department, Engineering Department, 150 Dexter Court, Elgin, IL 60120. | https://msc.fema.gov/portal/advanceSearch. | Mar. 27, 2023 | 170087
Cook | Unincorporated Areas of Cook County (22-05-0345P). | The Honorable Toni Preckwinkle, President, Cook County Board of Commissioners, 118 North Clark Street, Room 537, Chicago, IL 60602. | Cook County Building and Zoning Department, 69 West Washington Street, 28th Floor, Chicago, IL 60602. | https://msc.fema.gov/portal/advanceSearch. | Mar. 27, 2023 | 170054
Cook and DuPage | Village of Bartlett (22-05-0345P). | The Honorable Kevin Wallace, Village President, Village of Bartlett, 228 South Main Street, Bartlett, IL 60103. | Village Hall, 228 South Main Street, Bartlett, IL 60103. | https://msc.fema.gov/portal/advanceSearch. | Mar. 27, 2023 | 170059
Kane | City of St. Charles (22-05-2140P). | The Honorable Lora Vitek, Mayor, City of St. Charles, City Hall, 2 East Main Street, St. Charles, IL 60174. | City Hall, 2 East Main Street, St. Charles, IL 60174. | https://msc.fema.gov/portal/advanceSearch. | Apr. 18, 2023 | 170330
Kansas:
Reno | City of Hutchinson (22-07-0572P). | The Honorable Jade Piros De Carvalho, Mayor, City of Hutchinson, 125 East Avenue B, Hutchinson, KS 67501. | City Hall, 125 East Avenue B, Hutchinson, KS 67501. | https://msc.fema.gov/portal/advanceSearch. | Apr. 3, 2023 | 200283
Reno | Unincorporated Areas of Reno County (22-07-0572P). | Daniel Friesen, Chairperson, Reno County Commissioner, 206 West 1st Avenue, Hutchinson, KS 67501. | Reno County Public Works Department, 600 Scott Boulevard, South Hutchinson, KS 67505. | https://msc.fema.gov/portal/advanceSearch. | Apr. 3, 2023 | 200567
Michigan: Oakland | City of Novi (22-05-0343P). | The Honorable Bob Gatt, Mayor, City of Novi, Civic Center, 45175 West Ten Mile Road, Novi, MI 48375. | Civic Center, 45175 West Ten Mile Road, Novi, MI 48375. | https://msc.fema.gov/portal/advanceSearch. | Mar. 10, 2023 | 260175
Minnesota:
Anoka | City of Lino Lakes (22-05-1976P). | The Honorable Rob Rafferty, Mayor, City of Lino Lakes, City Hall, 600 Town Center Parkway, Lino Lakes, MN 55014. | City Hall, 600 Town Center Parkway, Lino Lakes, MN 55014. | https://msc.fema.gov/portal/advanceSearch. | Mar. 22, 2023 | 270015
Dakota | Unincorporated Areas of Dakota County (22-05-1797P). | Commissioner Mike Slavik, District 1, Dakota County Administration Center, 1590 Highway 55, Hastings, MN 55033. | Dakota County Administration Center, 1590 Highway 55, Hastings, MN 55033. | https://msc.fema.gov/portal/advanceSearch. | Apr. 17, 2023 | 270101
Nebraska: Lancaster | City of Lincoln (22-07-0824P). | The Honorable Leirion Baird, Mayor, City of Lincoln, 555 South 10th Street, Suite 301 Lincoln, NE 68508. | Building and Safety Department, 555 South 10th Street, City of Lincoln, NE 68508. | https://msc.fema.gov/portal/advanceSearch. | Apr. 26, 2023 | 315273
New York: Rockland | Village of Spring Valley (22-02-0020P). | The Honorable Alan M. Simon, Mayor, Village of Spring Valley, 200 North Main Street, Spring Valley, NY 10977. | Building Department, 200 North Main Street, Spring Valley, NY 10977. | https://msc.fema.gov/portal/advanceSearch. | May 23, 2023 | 365344
Texas:
Tarrant | City of Fort Worth (22-06-0422P). | The Honorable Mattie Parker, Mayor, City of Fort Worth, 200 Texas Street, Fort Worth, TX 76102. | Department of Transportation and Public Works, 200 Texas Street, Fort Worth, TX 76102. | https://msc.fema.gov/portal/advanceSearch. | Mar. 27, 2023 | 480596
Williamson | City of Round Rock (22-06-1378P). | The Honorable Craig Morgan, Mayor, City of Round Rock, City Hall, 221 East Main Street, Round Rock, TX 78664. | Transportation Department, 2008 Enterprise Drive, Round Rock, TX 78664. | https://msc.fema.gov/portal/advanceSearch. | Apr. 5, 2023 | 481048
Wisconsin: Milwaukee | City of Milwaukee (21-05-3522P). | The Honorable Cavalier Johnson, Mayor, City of Milwaukee, 200 East Wells Street, Room 201, Milwaukee, WI 53202. | City Hall, 200 East Wells Street, Milwaukee, WI 53202. | https://msc.fema.gov/portal/advanceSearch. | Apr. 6, 2023 | 550278

[FR Doc. 2023-00526 Filed 1-11-23; 8:45 am]

BILLING CODE 9110-12-P